FEDERAL MARITIME COMMISSION

[Docket No. 16-12]

Pro Transport, Inc., Pro Transport Jacksonville, Inc., Pro Transport Savannah, Inc., and Pro Transport Charleston, Inc. V. Seaboard Marine of Florida, Inc. and Seaboard Marine Ltd., Inc.; Notice of Filing of Complaint and Assignment

Notice is given that a Complaint has been filed with the Federal Maritime Commission (Commission) by Pro Transport, Inc., Pro Transport Jacksonville, Inc., Pro Transport Savannah, Inc. and Pro Transport Charleston, Inc., hereinafter “Complainants,” against Seaboard Marine of Florida, Inc., and Seaboard Marine Ltd., Inc., hereinafter “Respondents.” Complainants state that they are “motor carriers that provide transportation and transportation services, primarily to and from commercial ports along the southeastern seaboard of the United States.” Complainants allege that Respondents “acted as an ocean common carrier, a marine terminal operator, and/or as an agent for an ocean common carrier.”

Complainants allege that Respondents have violated Sections 10(b)(10), 10(d)(3), and 10(d)(4) of the Shipping Act of 1984, 46 U.S.C. 41104(10) and 46 U.S.C. 41106(2-3), because they refused to pay Complainants for services, terminated their relationship, and refuse to cooperate on outstanding insurance claims.

Complainants request the following relief: That Seaboard answer the charges in the complaint; be ordered to cease and desist from the aforesaid violations of the Shipping Act; establish and put in force such practices as the Commission determines to be lawful and reasonable; pay reparations to Complainants for alleged unlawful conduct in an amount the Commission may determine to be proper, with interest and attorney's fees and costs; and that the Commission issue such other and further order(s) as the Commission determines to be proper.

The full text of the complaint can be found in the Commission's Electronic Reading Room at www.fmc.gov/16-12.

This proceeding has been assigned to the Office of Administrative Law Judges. The initial decision of the presiding officer in this proceeding shall be issued by May 12, 2017 and the final decision of the Commission shall be issued by November 27, 2017.

Karen V. Gregory,
Secretary.

[FR Doc. 2016-11671 Filed 5-17-16; 8:45 am]

BILLING CODE 6731-AA-P